SECURITIES AND EXCHANGE COMMISSION

[File No. 500-1]

In the Matter of Placer Gold Corp. f\k\a Arctic Oil and Gas Corp.; Order of Suspension of Trading

December 17, 2009.

It appears to the Securities and Exchange Commission that there is a lack of current and accurate information concerning the securities of Placer Gold Corporation (f\k\a Arctic Oil and Gas Corp.) because questions have arisen regarding the accuracy of assertions in press releases, company Web sites and periodic reports filed with the Commission concerning, among other things, the company's financial condition.

The Commission is of the opinion that the public interest and the protection of investors require a suspension of trading in the securities of the above-listed company.

Therefore, it is ordered, pursuant to Section 12(k) of the Securities Exchange Act of 1934, that trading in the securities of the above-listed company is suspended for the period from 9:30 a.m. EST, on December 17, 2009 through 11:59 p.m. EST, on December 31, 2009.

By the Commission.
Jill M. Peterson,
Assistant Secretary.

[FR Doc. E9-30354 Filed 12-17-09; 11:15 am]

BILLING CODE 8011-01-P